DEPARTMENT OF EDUCATION

Notice Reopening the Deadline Dates for the Transmittal of Applications for Certain Direct Grants

SUMMARY: The Secretary reopens the deadline dates for the transmittal of applications for several competitions. All of the affected competitions are among those under which the Secretary is making new awards for fiscal year (FY) 2004. The Secretary takes this action to allow more time for the preparation and transmittal of applications by potential applicants from counties designated as Federal disaster areas due to the California wildfires. The reopening of these deadline dates is intended to help the potential applicants compete fairly with other applicants under these programs.

Eligibility: The reopened deadline dates in this notice apply to you if you are a potential applicant from a county on the following list. The President has declared a major disaster for the following counties in California as a result of recent wildfires.

County: Los Angeles, Riverside, San Bernardino, San Diego, and Ventura.

DATES: The new deadline date for transmittal of applications under each competition is listed with that competition.

If the program in which you are interested is subject to Executive Order 12372, the deadline date for intergovernmental review remains as originally posted.

ADDRESSES: The address and telephone number for obtaining applications for, or information about, an individual program are in the original application notice for that program. We have listed the publication date and Federal Register citation of the original application notice for each program.

If you use a telecommunications device for the deaf (TDD), you may call the TDD number, if any, listed in the individual application notice. If we have not listed a TDD number, you may call the Federal Information Relay Service (FIRS) at 1-800-877-8339.

SUPPLEMENTARY INFORMATION: Two of the affected programs are under the Rehabilitation Services Administration of the Office of Special Education and Rehabilitative Services, and five are under the Office of Postsecondary Education, including the Fund for the Improvement of Postsecondary Education (FIPSE) Comprehensive Program. You can find information related to each of these programs under the “List of Programs Affected” in this notice.

The following chart provides specific information about each of the programs or competitions covered by this notice:

List of Programs Affected
CFDA No. and Name | Publication date and Federal Register cite | Original deadline date for applications | Revised deadline date for applications
Rehabilitation Services Administration/Office of Special Education and Rehabilitative Services
84.129C/E/F/P/Q/R—Rehabilitation Training: Rehabilitation Long-Term Training | 8/26/03 (68 FR 51263) | 10/27/03 | 11/14/03
84.129B—Rehabilitation Training: Rehabilitation Long-Term Training—Vocational Rehabilitation Counseling | 9/17/03 (68 FR 54434) | 10/31/03 | 11/14/03
Office of Postsecondary and Education
84.017A—International Research and Studies Program | 8/26/03 (68 FR 51261) | 11/3/03 | 11/14/03
84.116A—FIPSE Comprehensive Program | 9/18/03 (68 FR 54719) | 11/3/03 | 11/14/03
84.016A—Undergraduate International Studies and Foreign Language Program | 9/11/03 (68 FR 53601) | 11/5/03 | 11/14/03
84.153A—Business and International Education Program | 8/27/03 (68 FR 51566) | 11/7/03 | 11/14/03
84.200A—Graduate Assistance in Areas of National Need (GAANN) Program | 8/12/03 (68 FR 47915) | 11/7/03 | 11/14/03

Individuals with disabilities may obtain this document in an alternative format (e.g., Braille, large print, audiotape, or computer diskette) on request to the program contact person listed in the individual application notices.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoacess.gov/nara/index.html.

Dated: November 4, 2003.
Jack Martin,
Chief Financial Officer.

[FR Doc. 03-28177 Filed 11-7-03; 8:45 am]

BILLING CODE 4000-01-P